DEPARTMENT OF COMMERCE

National Oceanic and Atmospheric Administration

Review of Nomination for Mariana Trench National Marine Sanctuary

AGENCY: Office of National Marine Sanctuaries (ONMS), National Ocean Service (NOS), National Oceanic and Atmospheric Administration (NOAA), Department of Commerce (DOC).

ACTION: Notice; reopening of public comment period.

SUMMARY: On January 21, 2022, NOAA published a notice in the Federal Register requesting written and oral comments to facilitate ONMS' five-year review of the nomination for the Mariana Trench National Marine Sanctuary (NMS) at the five-year interval. In that notice, NOAA requested relevant information as it pertains to its 11 evaluation criteria for inclusion in the inventory. During the public comment period, NOAA received requests for an extension to the comment period. This notice reopens the public comment period by an additional 45 days.

DATES: Written comments must be received by April 25, 2022. Comments submitted through the Federal eRulemaking Portal must be received by 11:59 p.m. Eastern Time on the closing date. NOAA will conduct a virtual meeting on Thursday, March 31, 2022, from 12 p.m.-3 p.m. ChST (Guam/Commonwealth of the Northern Mariana Islands)/Wednesday, March 30, 2022, from 4 p.m.-7 p.m. HST (Hawai'i). NOAA may end the meeting before the time noted above if all those participating have completed their oral comments.

ADDRESSES: Comments may be submitted by one of the following methods:

• Federal eRulemaking Portal: https://www.regulations.gov. Submit electronic comments via the Federal eRulemaking Portal and search for Docket Number NOAA-NOS-2022-0005.

• Mail: Kristina Kekuewa, Pacific Islands Regional Director, NOAA Office of National Marine Sanctuaries, 1845 Wasp Blvd., Honolulu, Hawaii 96818.

• Email: Kristina.Kekuewa@noaa.gov.

• Public Scoping Meeting: Provide oral comments during a virtual public scoping meeting, as described under DATES. Webinar registration details and additional information about how to participate in the public scoping meeting is available at https://nominate.noaa.gov/5-year-review.html.

Instructions: All comments received are a part of the public record. All personal identifying information (for example, name and address) voluntarily submitted by the commenter may be publicly accessible. Do not submit confidential business information or otherwise sensitive or protected information. NOAA will accept anonymous comments (enter N/A in the required fields to remain anonymous).

FOR FURTHER INFORMATION CONTACT: Kristina Kekuewa, Pacific Islands Regional Director, NOAA Office of National Marine Sanctuaries, 1845 Wasp Blvd., Honolulu, Hawaii 96818, or at kristina.kekuewa@noaa.gov, or at 808-725-5252.

SUPPLEMENTARY INFORMATION:

Background Information

In 2014, NOAA issued a final rule re-establishing the sanctuary nomination process (SNP), which details how communities may submit nominations of areas of the marine and Great Lakes environment for NOAA to consider for designation as national marine sanctuaries (79 FR 33851). NOAA moves successful nominations to an inventory of areas that could be considered for national marine sanctuary designation. The final rule re-establishing the SNP included a five-year limit on any nomination added to the inventory that NOAA does not advance for designation.

In November 2019, NOAA issued a Federal Register notice (84 FR 61546) to clarify procedures for evaluating and updating a successful nomination as it approaches the five-year mark in the inventory of areas that could be considered for national marine sanctuary designation. This notice explained that if a nomination remains responsive to the evaluation criteria for inclusion in the inventory, it may be appropriate to allow the nomination to remain in the inventory for another five years. The notice also established a process for NOAA to consider the continuing viability of nominations nearing the five-year expiration mark.

The nomination for Mariana Trench NMS was accepted to the national inventory on March 13, 2017, and is therefore scheduled to expire on March 13, 2022. This notice re-opens the comment period for 45 days. In combination with the previous 30-day public comment period and this 45-day public comment period, NOAA is providing 75 days for communities to organize comments on the nomination. Re-opening the comment period will not allow for a decision whether to keep the nomination in the inventory to be made by March 13, 2022, but NOAA believes it is important to give the community ample time to submit information on whether the nomination continues to meet the criteria to remain in the inventory. The Mariana Trench NMS will remain in the inventory until NOAA makes a determination, following the extended comment period, whether to retain this nomination in the inventory. The full nomination can be found at https://nominate.noaa.gov/nominations/.

NOAA is not proposing to designate the Mariana Trench NMS with this action. Instead, NOAA is seeking public comment on ONMS' five-year review of the nomination for Mariana Trench NMS. Accordingly, written comments submitted as part of this request should not focus on whether NOAA should initiate the designation process for a Mariana Trench NMS. Rather, comments should address the relevance of the nomination towards NOAA's 11 evaluation criteria and any new information NOAA should consider about the nominated area (these criteria are detailed at https://nominate.noaa.gov/guide.html). Comments that do not pertain to the evaluation criteria, or present new information on the Mariana Trench NMS nomination, will not be considered in NOAA's decision on whether to retain this nomination in the inventory.

Whether removing or maintaining the nomination for Mariana Trench NMS, NOAA would follow the same procedure for notifying the public NOAA followed when the nomination was submitted, including a letter to the nominator, a notice in the Federal Register, and posting information on “nominate.noaa.gov”.

(Authority: 16 U.S.C. 1431 et seq.)

John Armor,
Director, Office of National Marine Sanctuaries, National Ocean Service, National Oceanic and Atmospheric Administration.

[FR Doc. 2022-05114 Filed 3-9-22; 8:45 am]

BILLING CODE 3510-NK-P